DEPARTMENT OF AGRICULTURE

Submission for OMB Review; Comment Request

February 28, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques and other forms of information technology.

Comments regarding this information collection received by April 5, 2019 will be considered. Written comments should be addressed to: Desk Officer for Agriculture, Office of Information and Regulatory Affairs, Office of Management and Budget (OMB), New Executive Office Building, 725 17th Street NW, Washington, DC 20503. Commentors are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: The Whole Enchilada Trail: Conditions, User Experience and Comment Survey and Recreational Carrying Capacity Study.

OMB Control Number: 0596-NEW.

Summary of Collection: In order to better manage Forest Service lands and provide more enjoyable user experiences, the Manti-La Sal National Forest, Moab Ranger District, is seeking Office of Management and Budget approval to conduct data collection through means of a survey to gather information about stakeholders' perceptions about current conditions, user experience and acceptable means of management on a very popular mountain bike trail—The Whole Enchilada. The primary authorities for this collection are the National Agricultural Research, Extension, and Teaching Policy Act of 1977, as amended, which authorizes USDA agricultural research, education, and extension programs, and the Forest and Rangeland Renewable Resources Research Act of 1978, which authorizes USDA Forest Service “investigations, experiments, tests, and other activities . . . to obtain, analyze, develop, demonstrate, and disseminate scientific information about protecting, managing, and utilizing forest and rangeland renewable resources in rural, suburban, and urban areas” (Pub. L. 95-307 Sec. 3).

Need and Use of the Information: Information collected through this research contribute to USDA Strategic Goals, including ensuring USDA programs are delivered efficiently, effectively, and with integrity, and facilitating rural prosperity and economic development. It also contributes to Forest Service Strategic Goals of sustaining our nation's forests and delivering benefits to the public.

Description of Respondents: Individuals; Private Sector, business or other for-profits, farms.

Number of Respondents: 1,500.

Frequency of Responses: Reporting.

Total Burden Hours: 242.

Kimble Brown,
Departmental Information Collection Clearance Officer.

[FR Doc. 2019-03962 Filed 3-5-19; 8:45 am]

BILLING CODE 3411-15-P